COMMITTEE FOR PURCHASE FROM PEOPLE WHO ARE BLIND OR SEVERELY DISABLED

Procurement List; Additions

AGENCY: Committee for Purchase From People Who Are Blind or Severely Disabled.

ACTION: Additions to Procurement List.

SUMMARY: This action adds to the Procurement List services to be furnished by nonprofit agencies employing persons who are blind or have other severe disabilities.

EFFECTIVE DATE: May 25, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On October 11, 2002, January 10, January 17, and February 14, 2003, the Committee for Purchase From People Who Are Blind or Severely Disabled published notice (67 FR 63376, 68 FR 1434, 2498, and 7499) of proposed additions to the Procurement List. After consideration of the material presented to it concerning capability of qualified nonprofit agencies to provide the services and impact of the additions on the current or most recent contractors, the Committee has determined that the services listed below are suitable for procurement by the Federal government under 41 U.S.C. 46-48c and 41 CFR 51-2.4. I certify that the following action will not have a significant impact on a substantial number of small entities. The major factors considered for this certification were:

1. The action will not result in any additional reporting, recordkeeping or other compliance requirements for small entities other than the small organizations that will furnish the services to the government.

2. The action will result in authorizing small entities to furnish the services to the government.

3. There are no known regulatory alternatives which would accomplish the objectives of the Javits-Wagner-O'Day Act (41 U.S.C. 46-48c) in connection with the services proposed for addition to the Procurement List.

Accordingly, the following services are added to the Procurement List:

Services

Service Type/Location: Base Supply Center, Oceana Naval Air Station, Virginia Beach, Virginia.

NPA: Virginia Industries for the Blind, Charlottesville, Virginia.

Contract Activity: Fleet and Industries Supply Center, Norfolk, Virginia.

Service Type/Location: Base Supply Center, Space and Naval Warfare Systems Center, San Diego, California.

NPA: The Lighthouse for the Blind, Inc., Seattle, Washington.

Contract Activity: Space and Naval Warfare Systems Center, San Diego, California.

Service Type/Location: Custodial Service, U.S. Customs Service, Aviation Hanger, 457 Sandau Road, Bldg #2, 447 Sandau Road, San Antonio, Texas.

NPA: Mavagi Enterprises, Inc., San Antonio, Texas.

Contract Activity: U.S. Customs Service, Indianapolis, Indiana.

Service Type/Location: Food Service Attendant, U.S. Navy Sub Base, Galley 446, Groton, Connecticut.

NPA: CW Resources, Inc., New Britain, Connecticut.

Contract Activity: Fleet Industrial Supply Center, Philadelphia, Pennsylvania.

This action does not affect current contracts awarded prior to the effective date of this addition or options that may be exercised under those contracts.

Sheryl D. Kennerly,
Director, Information Management.

[FR Doc. 03-10256 Filed 4-24-03; 8:45 am]

BILLING CODE 6353-01-P